FEDERAL COMMUNICATIONS COMMISSION

47 CFR Part 73

[DA 04-363, Docket No. 01-65, RM-10078, RM-10188, RM-10189]

Radio Broadcasting Services; Brandon, SD, Emmetsburg, Sanborn and Sibley, IA

AGENCY: Federal Communications Commission.

ACTION: Final rule; denial of petition for reconsideration.

SUMMARY: This document denies a Petition for Reconsideration filed by Saga Communications of Iowa, LLC directed to the Report and Order in this proceeding which substituted Channel 261C3 for Channel 261A at Emmetsburg, Iowa, and modified the license of Station KDWD to specify operation on Channel 261C3. In doing so, the Report and Order also denied a competing proposal by Saga Communications of Iowa, LLC to upgrade a vacant Channel 261A allotment at Brandon, South Dakota. See 67 FR 64048, October 17, 2002. With this action, the proceeding is terminated.

FOR FURTHER INFORMATION CONTACT: Robert Hayne, Mass Media Bureau (202) 418-2177.

SUPPLEMENTARY INFORMATION: This is a synopsis of the Commission's Memorandum Opinion and Order in MM Docket No. 01-65, adopted February 25, 2004, and released February 27, 2004. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com. This document is not subject to the Congressional Review Act.

Federal Communications Commission.
John A. Karousos,
Assistant Chief, Audio Division, Media Bureau.

[FR Doc. 04-5907 Filed 3-15-04; 8:45 am]

BILLING CODE 6712-01-P